DEPARTMENT OF TRANSPORTATION

Surface Transportation Board

[STB Finance Docket No. 34859]

Red River Valley & Western Railroad Company—Trackage Rights Exemption—BNSF Railway Company

BNSF Railway Company (BNSF) has agreed to grant overhead trackage rights to Red River Valley & Western Railroad Company (RRVW) over BNSF's line of railroad between Jamestown, ND (milepost 93.2), and Casselton, ND (milepost 28.4), including BNSF's main line trackage from the switch at the intersection of RRVW's line to Ypsilanti, running west to the crossovers into the Jamestown yard tracks, a distance of approximately 74.0 miles.¹

¹ A redacted version of the trackage rights agreement between BNSF and RRVW was filed with the notice of exemption. The full version of the agreement, as required by 49 CFR 1180.6(a)(7)(ii), was concurrently filed under seal along with a motion for protective order. A protective order was served on April 13, 2006.

The transaction was expected to be consummated on or after April 7, 2006. The purpose of the trackage rights is to provide RRVW with an alternate route to other lines in its system. This alternate route has heavier rail, better quality track materials and can sustain higher operating speeds, thereby promoting safety and operating efficiencies.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34859, must be filed with the Surface Transportation Board, 1925 K Street, NW., Washington, DC 20423-0001. In addition, one copy of each pleading must be served on Rose-Michelle Nardi, Weiner Brodsky Sidman Kider PC, 1300 19th Street, NW., Fifth Floor, Washington, DC 20036.

Board decisions and notices are available on our Web site at http://www.stb.dot.gov.

Decided: April 13, 2006.
By the Board, David M. Konschnik, Director, Office of Proceedings.
Vernon A. Williams,
Secretary.

[FR Doc. E6-5931 Filed 4-19-06; 8:45 am]

BILLING CODE 4915-01-P